DEPARTMENT OF EDUCATION

34 CFR Part 600

RIN 1840-AD02

Institutional Eligibility Under the Higher Education Act of 1965, as Amended; Delay of Implementation Date

AGENCY: Office of Postsecondary Education, Department of Education.

ACTION: Final regulations; delay of implementation date.

SUMMARY: This document provides for a further delay until July 1, 2014, of the implementation date for certain State authorization regulations when an institution's State authorization does not meet the requirements of these regulations by the earlier delayed implementation date of July 1, 2013.

DATES: The implementation date is delayed to July 1, 2014, as discussed in the Supplementary Information section of this document.

FOR FURTHER INFORMATION CONTACT: Sophia McArdle, U.S. Department of Education, 1990 K Street NW., Room 8019, Washington, DC 20006-8542. Telephone: (202) 219-7078 or via the Internet at: Sophia.McArdle@ed.gov.

SUPPLEMENTARY INFORMATION: This document further delays until July 1, 2014, the implementation date of the changes to 34 CFR 600.9(a) and (b) (State authorization regulations) published in the Federal Register on October 29, 2010 (75 FR 66833) when an institution's State authorization does not meet the requirements of these regulations by July 1, 2013. The October 29, 2010, final regulations provided for delayed implementation until July 1, 2013, for institutions in States that could not implement the changes in § 600.9 prior to that date and obtained from the State an explanation of how a one-year extension would permit the State to modify its procedures to comply with amended § 600.9. The Department is providing this further extension to qualifying institutions because several States have notified us that they need additional time to develop or complete processes in order for some institutions to be able to comply with the State authorization provisions in § 600.9(a) and (b).

In order for an institution that cannot demonstrate it meets the State authorization requirements under the Department's regulations to receive an extension until July 1, 2014, to implement § 600.9(a) and (b), the institution must obtain from the State an explanation of how an additional one-year extension will permit the State to modify its procedures to comply with amended § 600.9. This explanation must be provided to Department staff upon request.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature of this site, you can limit your search to documents published by the Department.

List of Subjects in 34 CFR Part 600

Colleges and universities, Grant programs—education, Loan programs—education, Reporting and recordkeeping requirements, Student aid, Vocational education.

Delegation of Authority: The Secretary of Education has delegated authority to Brenda Dann-Messier, Assistant Secretary for Vocational and Adult Education, to perform the functions and duties of the Assistant Secretary for Postsecondary Education.

Dated: May 16, 2013.
Brenda Dann-Messier,
Assistant Secretary for Vocational and Adult Education, delegated the authority to perform the functions and duties of the Assistant Secretary for Postsecondary Education.

[FR Doc. 2013-12087 Filed 5-20-13; 8:45 am]

BILLING CODE 4000-01-P